DEPARTMENT OF ENERGY

National Nuclear Security Administration, Record of Decision for the Final Supplemental Environmental Impact Statement for the National Ignition Facility

AGENCY: Department of Energy, National Nuclear Security Administration.

ACTION: Record of Decision.

SUMMARY: The National Nuclear Security Administration (NNSA), a separate agency within the Department of Energy (DOE), is issuing this Record of Decision (ROD) for the National Ignition Facility (NIF), a key component of DOE's science-based stewardship of the nation's nuclear weapons stockpile. This ROD is based, in part, on the information and analysis contained in the National Ignition Facility Supplemental Environmental Impact Statement (SEIS) to the Stockpile Stewardship and Management Programmatic Environmental Impact Statement (SSM PEIS) (DOE/EIS-0236-S1). Other factors that influenced the decision include mission responsibilities of the Department. DOE's decision is to continue to construct and operate the NIF as analyzed in the SSM PEIS and the SEIS. This decision constitutes the no action alternative of continuing ongoing activities (DOE's Preferred Alternative) as described in the SEIS. As a result of this decision, DOE will make no changes in the design of NIF, will undertake no deviations in construction techniques, and will impose no operational changes in the NIF.

FOR FURTHER INFORMATION CONTACT: For further information on the SEIS or this ROD, please contact Scott L. Samuelson, NIF Field Manager, U. S. Department of Energy, 7000 East Avenue, Livermore, CA 94550-9234, phone (925) 423-0593.

For information on NNSA's National Environmental Policy Act (NEPA) process, contact Henry Garson, NEPA Compliance Officer for NNSA's Defense Programs, (301) 903-0470. For information on DOE's NEPA process, please contact: Carol M. Borgstrom, Director, Office of NEPA Policy and Compliance, EH-42, U. S. Department of Energy, 1000 Independence Avenue SW., Washington DC 20585, phone (202) 586-4600 or leave a message at 1-800-472-2756.

SUPPLEMENTARY INFORMATION: Background. The Lawrence Livermore National Laboratory (LLNL) was established in 1952 as a multi-disciplinary research and development center, and is operated by the University of California for the Department of Energy. LLNL is located in Livermore, California, about 40 miles southeast of San Francisco. LLNL consists of two portions, the main site in Livermore and the 300 Area near Tracy, California. The NIF is currently being constructed at the LLNL main site and is over 95% complete. The NIF is a part of the DOE's development of science-based, rather than underground nuclear test-based, stewardship of the nuclear weapons stockpile. In NIF, nuclear fusion of very small amounts of hydrogen isotopes is expected to be achieved using the energy inherent in laser light. The environmental consequences of construction and operation of NIF were addressed in detail in Appendix I of the SSM PEIS. The ROD for the SSM PEIS was published in the Federal Register on December 26, 1996 (61 FR 68014). In the ROD, DOE announced a decision to proceed with construction and operation of NIF at LLNL. Ground-breaking for NIF occurred on May 29, 1997.

On September 3, 1997, excavation activities at the NIF site uncovered capacitors containing polychlorinated biphenyls (PCB) oil and other items (buried drums that on analysis contained no hazardous, toxic and/or radioactive material). Several of the capacitors had leaked, contaminating surrounding soil. The capacitors and surrounding soil were cleaned up in accordance with federal, state and local requirements under a Comprehensive Environmental Response, Compensation, and Liability Act (CERCLA) removal action under paragraph 300.415 of the National Contingency Plan (40 CFR part 300). The possibility of such an event was unforeseen and therefore was not addressed in the SSM PEIS.

On September 22, 1997, the plaintiffs in NRDC v. Richardson, Civ. No. 97-936 (SS) (D.O.C.) filed a motion under Rule 60(b) of the Federal Rules of Civil Procedure, in which they alleged that DOE knew, but did not adequately analyze and disclose, the risk of building NIF in an area that may contain buried hazardous, toxic, and/or radioactive waste. DOE denied the allegations in the plaintiffs' motion. In a Joint Stipulation and Order (hereafter, “Order”), which settled all claims in the plaintiffs” Rule 60(b) motion, DOE agreed to conduct an assessment of “* * * the reasonably foreseeable significant adverse environmental impacts of continuing to construct and of operating NIF at LLNL with respect to any potential or confirmed contamination in the area by hazardous, toxic, and/or radioactive materials” and to present the results in an SEIS.

As agreed upon in the Order, DOE conducted characterization studies to determine the presence of any additional buried hazardous, toxic, and/or radioactive materials in the northeast corner of LLNL, where the NIF site is located. The progress of the characterization activities was documented to the court in the form of quarterly reports. The characterization activities are now complete and the results of these activities have been analyzed in the SEIS. The characterization studies did not detect the presence of any additional buried hazardous, toxic, and/or radioactive materials that would adversely impact human health and/or the environment.

Over the period of October 7-12, 1998, approximately one year after the Order, workers conducting routine drainage maintenance operations in the center of the East Traffic Circle (ETC) area uncovered debris. This location is outside the NIF construction area. Soil samples collected in the ETC area indicated that shallow soil in some locations contained residual PCB concentrations above the industrial cleanup level. These PCBs are believed to represent residual contamination from a 1984 landfill closure in the ETC area. In consultation with regulatory agencies, the surface soil was removed and sent to an EPA-approved hazardous waste disposal facility.

NEPA Process. On September 25, 1998, DOE issued a Notice of Intent (NOI) for preparation of the SEIS. On August 5, 1999, DOE issued an amended NOI for preparation of the SEIS to keep the public informed of the revised schedule for this SEIS. In October 1999, DOE published the Draft NIF SEIS, which evaluated the technical issues discussed in this ROD as they related to the evaluation of “ * * * the reasonably foreseeable significant adverse environmental impacts of continuing to construct and of operating NIF at LLNL, with respect to any potential or confirmed contamination in the area by hazardous, toxic and/or radioactive materials.”

The scope of the SEIS is based upon: (1) Any changes to the NIF proposed action not previously addressed in the SSM PEIS, including the requirements in the Joint Stipulation and Order, that are relevant to environmental concerns; and (2) any significant new circumstances or information relevant to environmental concerns and bearing on the NIF proposed action or its impacts, including the requirements in the Joint Stipulation and Order, that were not previously addressed in the SSM PEIS.

The public comment period for the Draft NIF SEIS began on November 5, 1999, and ended on December 20, 1999. During the comment period, public meetings were held in Washington, D.C., and Livermore, California. In addition, the public was encouraged to provide comments via mail, fax, Internet and telephone. Over 200 public comments were received. The Notice of Availability for the Final SEIS was published in the Federal Register on February 23, 2001 (66 FR 11568). Volume I of the Final SEIS contains changes made to the Draft SEIS in response to the public comment process, while Volume II, the Response to Public Comment, describes the public comment process, provides transcripts of the public meetings, presents comment summaries and responses, and provides copies of all comments received.

Purpose and Need. DOE's purpose and need for the NIF remains the same as that analyzed in the SSM PEIS. The NIF will provide a unique capability as a key component of DOE's science-based stewardship of the nation's nuclear weapons stockpile. Planned experiments with NIF at temperatures and pressures near those that occur in nuclear weapon detonations will provide data needed to verify certain aspects of sophisticated computer models. Those models are needed to simulate weapons physics, thereby providing insights on the reliability of the weapons stockpile. As a multipurpose inertial confinement fusion facility, the NIF will also be important to fusion energy research (e.g., next critical step in scientific evaluation of inertial fusion energy as a future environmentally attractive energy source), basic science (e.g., providing insight to the origin of the universe), and technology (e.g., developing new technologies to aid U.S. industrial competitiveness in optics, lasers, and integrated circuit manufacturing).

As stated above, DOE prepared the SEIS to address (1) any changes to the NIF proposed action not previously addressed in the SSM PEIS that are relevant to environmental concerns, including the requirements in the Order; and (2) any significant new circumstances or information relevant to environmental concerns and bearing on the NIF proposed action or its impacts, that were not previously addressed in the SSM PEIS. Among the issues potentially contained in the former category, this SEIS evaluates the issues raised by the Conference Report accompanying the Energy and Water Development Appropriations Act for Fiscal Year 2001, regarding the potential for operating NIF at less than the planned 192 beams. The SEIS also evaluates whether the results of the characterization studies completed pursuant to the Order should affect the manner in which DOE proceeds with construction and operation of the NIF.

Proposed Action and Alternatives Considered. The SEIS examines alternatives related to continuing construction and eventual operation of NIF in light of the discovered PCB waste in the NIF construction area and residual PCB contamination in the ETC area. The SEIS also presents results of the characterization studies that DOE conducted and completed in 1998 and 1999 pursuant to the Joint Stipulation and Order.

The site characterization activities necessary to meet the requirements of the Order were carried out in two phases. Phase I required a review of all available reports, studies, maps, aerial photographs, and other available records, as well as interviews with workers and retirees who are reasonably known to have knowledge of the potential existence and location of buried materials containing the mentioned substances in any of seven specified areas around and including the NIF construction site. Phase II consisted of the remainder of the required activities, as summarized here. The Order required identification of any areas where the materials in question may have been buried and required that appropriate geophysical surveys be carried out to further investigate such areas. Potential hazardous waste burial sites would then be investigated by, at a minimum, conducting soil boring and/or soil vapor surveys. Finally, the Order required the construction of one or more groundwater monitoring wells in the affected areas to monitor impacts from de-watering activities at the NIF construction site.

The Phase I and II investigations suggest that there is a low likelihood that significant quantities of additional previously unidentified buried hazardous, toxic, or radioactive objects remain in the stipulated areas. This conclusion is based on the results of the series of increasingly detailed inquiries conducted to identify and investigate suspect areas. This approach ensured wide coverage while providing convincing evidence of the absence of any further undocumented buried hazardous, toxic, or radioactive objects in likely areas. A comprehensive review was made of the current data, geophysical studies were conducted and site investigations, such as groundwater monitoring wells, soil boreholes and excavations, were performed. On the basis of the above findings, it was concluded that the only significant source of previously unknown or undiscovered buried hazardous, toxic, or radioactive waste existing in the northeastern quadrant at the time NIF construction began was the capacitor landfill discovered in September 1997. The elevated concentrations of residual PCBs discovered in soil in the ETC area in 1998 were from an already known past waste disposal site. Both the capacitor landfill area in the NIF construction area and the residual PCB contamination in the ETC area were cleaned up to action levels agreed upon by the CERCLA Remedial Project Managers (RPMs), thereby reducing the actual or potential contamination in these areas.

No Action Alternative—The Council on Environmental Quality (CEQ) regulations implementing NEPA require that an EIS consider a no action alternative (40 CFR 1502.14(d)). DOE has examined the no action alternative from two perspectives. The first reflects the stats quo, i.e., the ongoing activity of continuing to construct and operate NIF. The second no action alternative is to cancel the NIF project, at which time construction would cease and the site would be available for use for another purpose.

No Action: Continuing Activity to Construct and Eventually Operate NIF (DOE's Preferred Alternative)—DOE's current activities to construct and eventually to operate NIF, as proposed and analyzed in Appendix I of the SSM PEIS and decided in the SSM PEIS ROD dated December 26, 1996, represents the status quo. DOE believes that continuing ongoing activity is an appropriate no action alternative. CEQ has indicated that, in the case of ongoing activities, the no action alternative represents the status quo. (“[T]he ‘no action’ alternative may be thought of in terms of continuing with the present course of action until that action is changed” [Forty Most Asked Questions Concerning CEQ's NEPA Regulations, Question 3, 46 FR 18026, 18027 (March 23, 1981)].) Under this alternative, DOE would make no changes in the design of NIF, would undertake no deviations in construction techniques, and would impose no operational changes in response to the information regarding site contamination obtained during the characterization studies completed pursuant to the Joint Stipulation and Order. The SEIS describes the consequences of continuing to construct and of operating NIF with respect to potential buried hazardous, toxic, or radioactive material in the Stipulated Areas. The SSM PEIS analyzed this alternative in detail with respect to all other aspects of construction and operation.

No Action: Ceasing Construction—Because no action could also be interpreted as “no project at LLNL,” DOE has determined that ceasing construction of NIF at LLNL is also an appropriate no action alternative. This alternative consists of several options described in the SEIS. This alternative was also discussed in the SSM PEIS as the no action alternative. DOE believes that “no action”, when defined as ceasing construction of NIF, is not a reasonable alternative. This alternative would be reasonable to consider only if the characterization studies had determined that the contamination caused by buried hazardous, toxic, or radioactive materials was so extensive as to raise serious questions of the advisability of continuing the project in its current location. This is not the case, since no further contamination was found at levels or in extent great enough to require halting NIF construction to protect human health or the environment.

Options for No Action: Ceasing Construction

Placing the Facility in a Safe Condition—A decision to cease construction of NIF at LLNL could be followed by activities to place the facility in a condition that would permanently protect workers, the public, and the environment. The facility would then be left idle (“mothballed,” as described in public comment).

Using the Facility for Another Program—The NIF facility would be completed to the extent that it could be used for another program. Depending on the intended alternative use of the facility, the level of construction activity might be less than or equal to that required for completion of NIF. The major difference would be that the NIF scientific equipment would not be installed.

Demolishing NIF—The completed structures of the facility would be demolished, excavations filled, and the site returned to a condition that would be appropriate for open space.

Action Alternatives (Eliminated from Detailed Study)—The CEQ regulations require that an EIS analyze all reasonable alternatives to the proposed action and discuss the reasons why other alternatives were eliminated from detailed study [40 CFR 1502.14(a)]. As discussed below, DOE believes that the facts surrounding the proposed action and purpose and need for the SEIS lead to the conclusion that there are no reasonable action alternatives under the circumstances, and, therefore, all action alternatives were eliminated from detailed study.

Change NIF Construction and Operation—Possible action alternatives would consist of various ways to modify the manner in which DOE continues to construct and operate the facility to take into account the results of the characterization studies. Changes in construction and operation of NIF might be reasonable to consider as alternatives only if the characterization studies concluded that there are additional buried hazardous, toxic, or radioactive materials or soils in the area of the NIF construction site that would adversely affect human health and the environment. Phase I and II evaluations of the NIF site pursuant to the Order have uncovered no positive indications of additional hazardous, toxic, and/or radioactive material. The hazardous materials discovered during NIF construction have already been cleaned up. Contamination at these locations is now below levels of concern for impacts to the environment or human health. Characterization studies have shown that there is a very low likelihood of further existence of any buried wastes. Further NIF construction and NIF operations would result in no additional potential adverse health impacts to workers or the public from hazardous, toxic, and/or radiological materials related to buried wastes beyond those analyzed in the SSM PEIS. Therefore, no design, construction, or operation modifications to address the presence of such materials need be considered. Any contaminants within the area defined in the Joint Stipulation and Order, and outside the NIF construction site, will be addressed under the Comprehensive Environmental Response, Compensation, and Liability Act process with CERCLA RPM oversight.

Hypothetical Changes in NIF Operations Not Related to Buried Objects or Residual Site Contamination—Public comments received on the draft SEIS stated that certain changes related to NIF operations should be added to the scope of the NIF SEIS, including the following: use of plutonium, uranium, and lithium hydrides as targets for experiments; lower energy operations; reduced number of beam lines (e.g., a half-sized NIF); consideration of potential damage to optics; and more frequent maintenance and cleaning of optics. DOE examined these operational changes and determined they were not appropriate topics for the NIF SEIS for the following reasons.

The process for determining whether DOE will supplement the SSM PEIS to address a proposal to use plutonium, uranium, or lithium hydrides as targets was established in the Memorandum Opinion and Order issued by the U.S. District Court for the District of Columbia on August 19, 1998, in NRDC v. Richardson. By the terms of that Memorandum Opinion and Order, DOE, no later than January 1, 2004, will either (1) determine that experiments using plutonium, uranium (other than depleted uranium), lithium hydride, and certain other materials will not be conducted in the NIF or (2) prepare a Supplemental SSM PEIS analyzing the reasonably foreseeable environmental impacts of such experiments. DOE will continue to investigate the need for these experiments and will make the required determination or begin the appropriate SEIS by the specified date. However, until DOE has completed the necessary studies and determined that such experiments are needed, there is no proposal for such experiments, and it would be inappropriate to begin a SEIS on a hypothetical proposal.

While lower energy operations and operation with a reduced number of beam lines may be considered, these potential changes are within the envelope of operations evaluated in the SSM PEIS and, for these reasons, are not evaluated in detail as a distinct alternative in the SEIS. Consistent with language in the Conference Report accompanying the Energy and Water Appropriations Act for Fiscal Year 2001, which directed DOE to examine these issues, the SEIS includes an analysis of lower energy operations and operation with a reduced number of beam lines, both in terms of the envelope of operations analyzed in the SSM PEIS and in absolute terms. The SSM PEIS evaluated operations of NIF in an enhanced mode with a maximum credible yield of 45 megajoules per shot, a maximum tritium inventory of 500 Ci, a tritium throughput of 1,750 Ci/yr, and tritium effluents of 30 Ci/yr. Operations with fewer beam lines and/or at less energy would result in less or no yield per shot, less tritium inventory, less tritium throughput, and less tritium effluents. Since the absolute impacts from the full NIF would be very low, as documented in the SSM PEIS, the SEIS concludes that any differences between such impacts of the reduced options would be inconsequential, irrespective of their relative magnitudes.

Public comment also requested that the SEIS address more frequent damage to optics, more frequent maintenance of optics, and more frequent cleaning of optics. DOE has examined this issue and concluded that the impacts to workers and the public from damage to the final optics in the beam lines has already been included in the impact analysis conducted as part of the SSM PEIS. The actual frequency with which optics components will have to be cleaned, adjusted, repaired, or replaced would not be determined until the facility is completed and tested.

The NIF laser facility includes 192 beam lines consisting of more than 10,000 discrete optical components. The NIF target area provides confinement of tritium and activation products by providing physical barriers and controlling air flow. The facility operates in a pulsed mode; maintenance and repair of the beamlines would not occur during a pulse. The SSM PEIS evaluated risks to workers and the public and generation of wastes for an enhanced mode with bounding yield. Normal operations are expected to be within those bounds, including variations in maintenance and repair of optics. For these reasons, DOE determined that this was not an appropriate issue or alternative for inclusion for detailed study in the SEIS.

Constructing NIF at Another Site—Constructing NIF at another site at this time is not a reasonable option from a technical perspective. The conventional construction of the NIF facility is now more than 95% complete. The NIF requires large-scale laser research, development, and support facilities that are present only at LLNL. In order to meet the purpose and need for NIF, the required scientific infrastructure and facilities that are now present at LLNL would have to be developed at another site.

Moving NIF to another site might be reasonable to consider only if the characterization studies identified additional major sources of further contamination from buried hazardous, toxic, or radioactive materials. No additional previously unknown or undiscovered sources of contaminated objects were found at the NIF construction area as a result of Phase I and Phase II characterization activities, and the impacts of cleanup were minor (below levels of concern for human health). The residual contamination found at the ETC area is at a location different from that of the NIF construction site and would not affect NIF construction or operation. Moving NIF to another site would not provide the public substantial additional protection from buried hazardous or radioactive materials. Any such materials found would be removed under any circumstances.

Abandonment of the NIF Facility—Although suggested in public comment on the draft SEIS, this option was considered but not evaluated in detail in the SEIS. DOE has determined that it is unreasonable to stop construction and abandon the site or facility without further modifications. The facility would not be protected in any way from degradation by the elements or from unwanted intrusion. Abandonment without placing the facility in a safe condition would violate DOE's principles of integrated safety management and good management practices. Abandonment could violate one or more federal regulations, state regulations, or DOE orders and guidelines. Abandonment would not enable DOE to meet the purpose and need for which the NIF is being constructed.

Summary of Environmental Impacts. The SEIS evaluates the impacts of the preferred alternative and describes the Phase I and Phase II characterization studies. The SEIS also evaluates the potential impacts (including cumulative impacts) to LLNL workers and to the public from construction and operation of the NIF because of the possible presence of buried hazardous, toxic, or radioactive materials in the areas in the northeastern quadrant of the LLNL as stipulated in the Order.

Results of Phase I and Phase II investigations show that there is a low likelihood that significant quantities of buried hazardous, toxic, or radioactive materials remain in the stipulated areas. This conclusion is based on the results of the series of increasingly detailed inquiries conducted to identify and investigate suspected areas. This approach ensured wide coverage while providing convincing evidence of the absence of any further undocumented buried hazardous, toxic, or radioactive objects in likely areas. A comprehensive review was made of the current data from the existing 450 groundwater monitoring wells and extensive soil borings. A total of four magnetometer surveys, two electrical conductivity surveys and one ground penetrating radar survey was conducted. Six new groundwater monitoring wells were installed, 31 soil boreholes were drilled, and 11 test excavations were performed. The results of the Phase I and II investigations were presented in the SEIS.

On the basis of the above findings, DOE has concluded that the only significant source of previously unknown or undiscovered buried hazardous, toxic, or radioactive waste existing in the northeastern quadrant at the time NIF construction began was the capacitor landfill, discovered in September 1997. The elevated concentrations of residual PCBs discovered in soil in the ETC area in 1998 were from a known former waste disposal site. Both the capacitor landfill area at the NIF construction site and the residual PCB contamination in the ETC area were cleaned up to action levels agreed upon by the CERCLA RPMs, thereby reducing the actual or potential contamination in these areas.

DOE's analysis of soil and groundwater data, including data collected in support of the capacitor landfill removal and Phase I and II investigations, concluded that levels of contamination are well below those that would impact human health and the environment. Current and future levels of PCB contamination in groundwater are calculated to be well below levels considered to present a risk to the public. Construction and operation of NIF would not adversely affect groundwater because no groundwater withdrawals or discharges would occur from this facility. Ongoing remediation activities will continue to improve groundwater quality for both no action alternatives—(1) continuing construction and operation of NIF and (2) ceasing construction of NIF. Potential impacts on the human environment at LLNL are below any level of concern.

Environmentally Preferable Alternative. Environmental impacts were estimated to be small for both no action alternatives as the levels of contamination found at LLNL in the NIF site are well below those that would impact human health and the environment. The no action alternative of stopping NIF construction without relocation to another site would impair the ability of NNSA to meet the purpose and need for which NIF is being constructed, and is not considered a reasonable alternative. Nonetheless, a decision to cease construction of NIF at LLNL, if followed by activities to place the facility in a condition that would permanently protect workers, the public, and the environment, or to use the facility for another program with less environmental impacts than NIF operation, would be the environmentally preferable alternative, albeit an unreasonable alternative from NNSA's standpoint.

Comments on the Final SEIS. During the 30-day period following notice that the Final SEIS had been filed on February 23, 2001, the NNSA received no comments on the Final SEIS.

Other Considerations. Cost and technical considerations have been taken into account in the selection of the preferred alternative. NNSA reviewed the mission need for NIF in a “30-Day Review,” a review by the NIF Programs” Target Physics Review Committee and a report focused upon the role of NIF in the Stockpile Stewardship Program. NIF is one of a set of essential capabilities that is needed to address the significant technical challenges associated with developing a science-based understanding of the nuclear stockpile. Given the continuing requirement for NIF, the cost considerations relate to continuing the construction at the existing site or starting the construction at a new site. Accordingly, completing the construction at LLNL offers a significant cost advantage.

Decision. NNSA has decided to continue the current activities to construct and eventually to operate NIF, as analyzed in Appendix I of the SSM PEIS and the SEIS. This decision was analyzed in the SEIS as the no action alternative of continuing to construct and eventually to operate NIF, which is NNSA's preferred alternative, and the only reasonable alternative analyzed in the SEIS. Under this action, NNSA would make no changes in the design of NIF, would undertake no deviations in construction techniques, and would impose no operational changes in response to the information regarding site contamination obtained during the characterization studies completed pursuant to the Joint Stipulation and Order.

NNSA prepared this Record of Decision pursuant to the Council on Environmental Quality Regulations for implementing the procedural provisions of the National Environmental Policy Act (NEPA) (40 CFR parts 1500-1508) and the Department of Energy Regulations implementing NEPA (10 CFR part 1021). In making this ROD for the NIF SEIS, the Department considered the analysis in the NIF SEIS and the SSM PEIS, along with other factors such as the NNSA statutory mission requirements and national security policy.

Issued in Washington, D.C. this 30th day of March, 2001.
Spencer Abraham,
Secretary of Energy.

[FR Doc. 01-8396 Filed 4-4-01; 8:45 am]

BILLING CODE 6450-01-P